DEPARTMENT OF ENERGY

International Energy Agency Meetings

AGENCY: Department of Energy.

ACTION: Notice of meetings.

SUMMARY: The Industry Advisory Board (IAB) to the International Energy Agency (IEA) will meet on March 25, 2009, at the headquarters of the IEA in Paris, France, in connection with a joint meeting of the IEA's Standing Group on Emergency Questions (SEQ) and the IEA's Standing Group on the Oil Market on March 25, and on March 26 in connection with a meeting of the SEQ on March 26.

DATES: March 25-26, 2009.

ADDRESSES: 9, rue de la Fédération, Paris, France.

FOR FURTHER INFORMATION CONTACT: Diana D. Clark, Assistant General for International and National Security Programs, Department of Energy, 1000 Independence Avenue, SW., Washington, DC 20585, 202-586-3417.

SUPPLEMENTARY INFORMATION: In accordance with section 252(c)(1)(A)(i) of the Energy Policy and Conservation Act (42 U.S.C. 6272(c)(1)(A)(i)) (EPCA), the following notice of meeting is provided:

Meetings of the Industry Advisory Board (IAB) to the International Energy Agency (IEA) will be held at the headquarters of the IEA, 9, rue de la Fédération, Paris, France, on March 25, 2009, beginning at 9 a.m. and on March 26 beginning at 9:30 a.m. The purpose of this notice is to permit attendance by representatives of U.S. company members of the IAB at a joint meeting of the IEA's Standing Group on Emergency Questions (SEQ) and the IEA's Standing Group on the Oil Market (SOM) on March 25 beginning at 9 a.m. at the same location, and at a meeting of the SEQ on March 26 beginning at 9:30 a.m. The IAB will also hold a preparatory meeting among company representatives at the same location at 8:30 a.m. on March 26. The agenda for this preparatory meeting is to discuss the March 25 joint meeting of the SEQ and the SOM and to review the agenda for the SEQ meeting commencing at 9:30 a.m. on March 26.

The agenda of the joint SEQ/SOM meeting on March 25 is under the control of the SEQ and the SOM. It is expected that the SEQ and the SOM will adopt the following agenda:

1. Adoption of the Agenda

2. Approval of the Summary Record of the November 2008 SEQ/SOM Joint Session

3. Update on the Oil Market

4. Update on the Gas Market

5. Reports by Member Countries on Oil and Gas Markets

6. Preparation for the October 2009 Ministerial Meeting

7. Recent Developments in the Caucasus/Caspian Region

8. Overview of the Russia—Ukraine Gas Dispute of January 2009

9. Update on EMS (Energy Markets and Security) Activities

10. Panel Discussion on Price Formation

11. Other Business

The agenda of the SEQ meeting on March 26, 2009, is under the control of the SEQ. It is expected that the SEQ will adopt the following agenda:

1. Adoption of the Agenda

2. Approval of the Summary Record of the 125th Meeting

3. Status of Compliance with IEP Stockholding Commitments

4. Emergency Response Exercise

—Draft Outline for Workshop on Public Stock Release, June 2009

—Draft Program for ERES

5. Emergency Response Review Program

—Questionnaire Response of Ireland

—Questionnaire Response of Belgium

—Questionnaire Response of Canada

—Emergency Response Review of Luxembourg

—Emergency Response Review of Portugal

—Emergency Response Review of Italy

—Schedule of Emergency Response Reviews

6. Policy and Other Developments in Member Countries

—Australia

—Canada

—Japan

—United Kingdom

—United States

7. Activities with International Organizations and Non-Member Countries

—Comparison of Draft EU Directive on Emergency Oil Stocks with the IEA System

—Work on Candidate Countries

—Emergency Response Exercises in Thailand, China, and India

—IEA/HANDA/EC Workshop on Establishment of Emergency Oil Stocks in Southeast Europe, May 28-29, 2009, Croatia

8. Report from the Industry Advisory Board

9. Emergency Policy for Natural Gas

—Draft Proposal on Energy Policy for Natural Gas for the October 2009 Ministerial Meeting

—Natural Gas Reserves in Hungary

10. Documents for Information

—Emergency Reserve Situation of IEA Member Countries on January 1, 2009

—Base Period Final Consumption: 1Q 2008-4Q 2008

—Monthly Oil Statistics: December 2008

—Updated Emergency Contacts List

12. Other Business

—Tentative Schedule of Meetings:

—June 23-25, 2009

—October 20-22, 2009

As provided in section 252(c)(1)(A)(ii) of the Energy Policy and Conservation Act (42 U.S.C. 6272(c)(1)(A)(ii)), the meetings of the IAB are open to representatives of members of the IAB and their counsel; representatives of members of the IEA's Standing Group on Emergency Questions and the IEA's Standing Group on the Oil Markets; representatives of the Departments of Energy, Justice, and State, the Federal Trade Commission, the General Accounting Office, Committees of Congress, the IEA, and the European Commission; and invitees of the IAB, the SEQ, the SOM, or the IEA.

Issued in Washington, DC, March 10, 2009.
Diana D. Clark,
Assistant General Counsel for International and National Security Programs.

[FR Doc. E9-5607 Filed 3-13-09; 8:45 am]

BILLING CODE 6450-01-P